DEPARTMENT OF ENERGY

Agency Information Collection Extension

AGENCY: Department of Energy.

ACTION: Submission for Office of Management and Budget (OMB) review; comment request.

SUMMARY: The Department of Energy (DOE) has submitted an information collection package to the OMB for extension under the provisions of the Paperwork Reduction Act of 1995. The package requests a three-year extension of its “Procurement Reporting and Record Keeping Burdens,” OMB Control Number 1910-4100. This information collection package collects data that is used by the Department to exercise management oversight and control over contractors including management and operating (M&O) contractors operating DOE's facilities and other contractors furnishing goods and services with regard to implementation of applicable statutory, regulatory and contractual requirements and obligations. The information collection requires that contractors submit information pertaining to their Procurement activities such as acquisition of real property, facilities management, and subcontracting goals and reporting requirements. The collection is critical to ensure that the Government has sufficient information to judge the degree to which contractors are meeting requirements, that public funds are spent in an efficient and effective manner and that fraud, waste and abuse are avoided. The Department published a Notice and Request for Comment for this collection in the Federal Register on December 10, 2004 at 69 FR 71807. No comments were received in response to the Notice.

DATES: Comments regarding this collection must be received on or before March 28, 2005. If you anticipate that you will be submitting comments, but find it difficult to do so within the period of time allowed by this notice, please advise the OMB Desk Officer of your intention to make a submission as soon as possible. The Desk Officer may be telephoned at 202-395-4650.

ADDRESSES: Written comments should be sent to: DOE Desk Officer, Office of Information and Regulatory Affairs, Office of Management and Budget, New Executive Office Building, Room 10102, 735 17th Street, NW., Washington, DC 20503.

Comments should also be addressed to: Sharon A. Evelin, Director, IM-11/Germantown Bldg., U.S. Department of Energy, 1000 Independence Ave SW., Washington, DC 20585-1290, and to: Richard L. Langston, Procurement Policy Analyst, ME-63 L'Enfant Plaza Building, 1000 Independence Ave. SW., Washington, DC 20585-1615.

FOR FURTHER INFORMATION CONTACT: Sharon A. Evelin and Richard L. Langston, at the addresses listed above in ADDRESSES.

SUPPLEMENTARY INFORMATION: This package contains:

(1) OMB No.: 1910-4100.

(2) Package Title: Procurement Reporting and Record Keeping Burdens.

(3) Purpose: This information is required by the Department to ensure that DOE contracts including management and operation contractors operating DOE facilities are managed efficiently and effectively and to exercise management oversight of DOE contractors.

(4) Estimated Number of Respondents: 1,616.

(5) Estimated Total Burden Hours: 893,359.

(6) Number of Collections: The package contains 41 information and/or recordkeeping requirements.

Statutory Authority: Department of Energy Organization Act, Public Law 92-01.

Issued in Washington, DC, on February 18, 2005.
Sharon A. Evelin,
Director, Records Management Division, Office of the Chief Information Officer.

[FR Doc. 05-3648 Filed 2-24-05; 8:45 am]

BILLING CODE 6450-01-P